DEPARTMENT OF AGRICULTURE

Animal and Plant Health Inspection Service

7 CFR Part 319

[Docket No. APHIS-2006-0129]

RIN 0579-AC32

Wood Packaging Material; Treatment Modification

AGENCY: Animal and Plant Health Inspection Service, USDA.

ACTION: Interim rule and request for comments.

SUMMARY: We are amending the regulations for the importation of unmanufactured wood articles to bring the methyl bromide treatment schedule into alignment with current international phytosanitary standards. This action is necessary because international phytosanitary standards have changed and the regulations need to be updated to reflect current standards.

DATES: This interim rule is effective June 1, 2007. We will consider all comments that we receive on or before July 31, 2007.

ADDRESSES: You may submit comments by either of the following methods:

• Federal eRulemaking Portal: Go to http://www.regulations.gov, select “Animal and Plant Health Inspection Service” from the agency drop-down menu, then click “Submit.” In the Docket ID column, select APHIS-2006-0129 to submit or view public comments and to view supporting and related materials available electronically. Information on using Regulations.gov, including instructions for accessing documents, submitting comments, and viewing the docket after the close of the comment period, is available through the site's “User Tips” link.

• Postal Mail/Commercial Delivery: Please send four copies of your comment (an original and three copies) to Docket No. APHIS-2006-0129, Regulatory Analysis and Development, PPD, APHIS, Station 3A-03.8, 4700 River Road Unit 118, Riverdale, MD 20737-1238. Please state that your comment refers to Docket No. APHIS-2006-0129.

Reading Room: You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: Mr. Hesham Abuelnaga, Import Specialist, PPQ, APHIS, 4700 River Road Unit 133, Riverdale, MD 20737-1231; (301) 734-0627.

SUPPLEMENTARY INFORMATION:

Background

The regulations in “Subpart-Logs, Lumber, and Other Unmanufactured Wood Articles” (7 CFR 319.40 through 319.40-11, referred to below as the regulations) govern the importation of various logs, lumber, and other unmanufactured wood products into the United States. The regulations in § 319.40-3 cover general permits, including the requirements for articles that may be imported without specific permits or importer documents. Paragraph (b) of that section covers the requirements for regulated wood packaging material, including requirements for treating wood packaging material. The treatment and other requirements of § 319.40-3(b) are intended to be consistent with the International Standards for Phytosanitary Measures No. 15, “Guidelines for Regulating Wood Packaging Material in International Trade” (ISPM 15). ISPM 15 is an international standard for wood packaging material established by the International Plant Protection Convention (IPPC). Under ISPM 15 and our regulations, all regulated wood packaging material must be appropriately treated and marked under an official program developed and overseen by the national plant protection organization of the country of export.

One of the treatments in § 319.40-3(b) is fumigation with methyl bromide. The methyl bromide treatment schedule in the regulations is the schedule that was in ISPM 15 at the time the regulations became effective. However, in April 2006, the membership of the IPPC—which includes the United States—adopted an amendment to ISPM 15 that modified the methyl bromide treatment standard to improve its efficacy. The modification changed the exposure time from 16 to 24 hours and adjusted the concentration readings per cubic meter accordingly; the dosage rate of methyl bromide remains unchanged. As a member of the standards committee of the IPPC, we agreed with this change to the standard. Therefore, in order for our regulations to remain consistent with ISPM 15 and provide for a more effective treatment, we are amending the methyl bromide treatment schedule that appears in § 319.40-3(b). The updated schedule is presented in the regulatory text at the end of this document.

Immediate Action

Immediate action is necessary to update the regulations so that the prescribed treatment for wood packaging materials is consistent with international standards. Under these circumstances, the Administrator has determined that prior notice and opportunity for public comment are contrary to the public interest and that there is good cause under 5 U.S.C. 553 for making this action effective less than 30 days after publication in the Federal Register.

We will consider comments we receive during the comment period for this interim rule (see DATES above). After the comment period closes, we will publish another document in the Federal Register. The document will include a discussion of any comments we receive and any amendments we are making to the rule.

Executive Order 12866 and Regulatory Flexibility Act

This rule has been reviewed under Executive Order 12866. The rule has been determined to be not significant for the purposes of Executive Order 12866 and, therefore, has not been reviewed by the Office of Management and Budget.

We are amending the regulations for the importation of unmanufactured wood articles to bring the methyl bromide treatment schedule into alignment with current international phytosanitary standards. This action is necessary because international phytosanitary standards have changed and the regulations need to be updated to reflect current standards.

The Regulatory Flexibility Act requires agencies to evaluate the potential effects of their proposed and final rules on small businesses, small organizations, and small governmental jurisdictions. Section 603 of the Act requires an agency to prepare and make available for public comment an initial regulatory flexibility analysis (IRFA) describing the expected impact of a proposed rule on small entities, unless the head of the agency certifies that the rule will not, if promulgated, have a significant economic impact on a substantial number of small entities. APHIS has prepared this IRFA in order that the public may have the opportunity to offer comments on expected small-entity effects of this interim rule. We address here items as required by section 603(b) of the Regulatory Flexibility Act.

This rule will affect foreign exporters of goods that are shipped using wood packaging materials. No U.S. entities involved in the production or supply of unmanufactured wood packaging materials are expected to be negatively impacted by this rule because the revised treatment must occur in the country of origin. The impact on foreign entities is not expected to be large because only the treatment time and concentration reading have been changed; the methyl bromide dosage rate remains the same. It is possible that these foreign entities might pass on additional treatment costs, if any, to U.S. buyers. We welcome information that the public may offer that would either confirm or challenge the Agency's determination that effects, if any, on U.S. entities will be minimal.

The interim rule has no mandatory reporting, recordkeeping, or other compliance requirements for U.S. entities, other than the requirements that normally pertain to commodity importation. APHIS has not identified any duplication, overlap, or conflict of the interim rule with other Federal rules.

We do not foresee the interim rule having a significant economic impact on small entities, and therefore have not proposed significant alternatives to minimize impacts. The rule will simply align the U.S. methyl bromide treatment requirements for wood packaging materials with the standards established by the IPPC.

This interim rule will benefit the United States by reducing the risk of introduction of pests via unmanufactured wood packaging materials. It may impact foreign exporters of goods to the United States who use unmanufactured wood packaging materials, which in turn may affect importers of these goods. However, cost increases, if any, due to the revised treatment requirements are not expected to significantly affect domestic entities and thus will not have a measurable impact on the flow of trade. We welcome information that the public may offer that would allow the Agency to better determine the effect, if any, that the interim rule will have on U.S. small entities.

Executive Order 12988

This rule has been reviewed under Executive Order 12988, Civil Justice Reform. This rule: (1) Preempts all State and local laws and regulations that are inconsistent with this rule; (2) has no retroactive effect; and (3) does not require administrative proceedings before parties may file suit in court challenging this rule.

National Environmental Policy Act

Section 1508.4 of the Council on Environmental Quality's (CEQ) National Environmental Policy Act (NEPA) implementing regulations define categorical exclusion as a “category of actions which do not individually or cumulatively have a significant effect on the human environment and which have been found to have no such effect in procedures adopted by a Federal agency in implementation of these regulations (section 1507.3) and for which, therefore, neither an environmental assessment nor an environmental impact statement is required.”

The changes to the treatment schedule do not increase the application rate for methyl bromide, but they do increase the length of time for the fumigation. The increase in time to 24 hours does not require more usage of methyl bromide if the fumigation enclosure is sealed well and the fumigation is conducted properly. The decrease in required concentrations over time within the fumigation enclosure in the revised treatment schedule makes allowance for additional adsorption of methyl bromide to the wood that occurs over the extended time period. APHIS also notified the Environmental Protection Agency (EPA) of this change. The EPA responded that it does not consider the change to be significant. Based on this information, we have determined this revision meets the definition of a categorically excluded action under CEQ's regulations for implementing the procedural provisions of NEPA (40 CFR parts 1500-1508), USDA regulations implementing NEPA (7 CFR part 1b), and (4) APHIS' NEPA Implementing Procedures (7 CFR part 372).

The record of categorical exclusion determination may be viewed on the Regulations.gov Web site or in our reading room. (Instructions for accessing Regulations.gov and information on the location and hours of the reading room are provided under the heading ADDRESSES at the beginning of this proposed rule.) In addition, copies may be obtained by calling or writing to the individual listed under FOR FURTHER INFORMATION CONTACT.

Paperwork Reduction Act

This interim rule contains no information collection or recordkeeping requirements under the Paperwork Reduction Act of 1995 (44 U.S.C. 3501 et seq.).

List of Subjects in 7 CFR Part 319

Coffee, Cotton, Fruits, Imports, Logs, Nursery stock, Plant diseases and pests, Quarantine, Reporting and recordkeeping requirements, Rice, Vegetables.

Accordingly, we are amending 7 CFR part 319 as follows:

PART 319—FOREIGN QUARANTINE NOTICES

1. The authority citation for part 319 continues to read as follows:

Authority: 7 U.S.C. 450, 7701-7772, and 7781-7786; 21 U.S.C. 136 and 136a; 7 CFR 2.22, 2.80, and 371.3.

2. In § 319.40-3, paragraph (b)(1)(ii), including the table, is revised to read as follows:

§ 319.40-3 General permits; articles that may be imported without either a specific permit or an importer document.

* * * * *

(b) * * *

(1) * * *

(ii) Fumigated with methyl bromide in an enclosed area for at least 24 hours at the following dosage, stated in terms of grams of methyl bromide per cubic meter of the enclosure being fumigated. Following fumigation, fumigated products must be aerated to reduce the concentration of fumigant below hazardous levels, in accordance with the label instructions approved by the U.S. Environmental Protection Agency:

Temperature (°C/°F) | Dosage (g/m³) | Minimum required concentration g/m³ after:: 0.5 hr | Minimum required concentration g/m³ after:: 2 hrs | Minimum required concentration g/m³ after:: 4 hrs | Minimum required concentration g/m³ after:: 12 hrs | Minimum required concentration g/m³ after:: 24 hrs
21/70 or above | 48 | 36 | 36 | 31 | 28 | 24
16/61 or above | 56 | 42 | 42 | 36 | 32 | 28
10/50 or above | 64 | 48 | 48 | 42 | 36 | 32

The minimum temperature should not be less than 10 °C/50 °F and the minimum exposure time should be 24 hours.

* * * * *

Done in Washington, DC, this 25th day of May 2007.
Kevin Shea,
Acting Administrator, Animal and Plant Health Inspection Service.

[FR Doc. E7-10559 Filed 5-31-07; 8:45 am]

BILLING CODE 3410-34-P